DEPARTMENT OF DEFENSE

Office of the Secretary

[Docket ID: DOD-2011-OS-0121]

Privacy Act of 1974; System of Records; Withdrawal

AGENCY: Office of the Secretary of Defense, Department of Defense (DoD).

ACTION: Notice to delete a System of Records; withdrawal.

SUMMARY: On November 14, 2011 (76 FR 70427), Department of Defense published a Privacy Act of 1974; System of Records notice (FR Doc. 2011-29200). This notice had already been published in the Federal Register on August 22, 2011 (76 FR 52322, FR Doc. 2011-21286). The notice of November 14, 2011 published in error. This document withdraws that notice.

DATES: The notice published on November 14, 2011 (76 FR 70427) is withdrawn, effective November 17, 2011.

FOR FURTHER INFORMATION CONTACT: Aaron Siegel, (571) 372-0488.

Dated: November 14, 2011.
Aaron Siegel,
Alternate OSD Federal Register Liaison Officer, Department of Defense.

[FR Doc. 2011-29710 Filed 11-16-11; 8:45 am]

BILLING CODE 5001-06-P